DEPARTMENT OF COMMERCE

International Trade Administration

19 CFR Part 360

[Docket No. 040305083-4083-01]

RIN 0625-AA64

Steel Import Monitoring and Analysis System

AGENCY: Import Administration, International Trade Administration, Department of Commerce.

ACTION: Advanced notice of proposed rulemaking.

SUMMARY: The Department is seeking suggestions on whether to extend the Steel Import Monitoring and Analysis (SIMA) system and whether, and if so how, to improve SIMA, while minimizing any impediments to international commerce.

DATES: Written comments and electronic files must be received on or before 5 p.m. eastern daylight savings time September 24, 2004. Submitters are encouraged to limit written comments (original and five copies) to ten pages or less.

ADDRESSES: Written comments should be sent to Kelly Parkhill, Director for Industry Support and Analysis, Import Administration, Room 3713, Department of Commerce, 14th Street and Constitution Ave., NW., Washington, DC 20230. Electronic files should state “Comments on Advanced Notice of Proposed Rule Making” in the subject line and be sent to steel_license@ita.doc.gov.

FOR FURTHER INFORMATION CONTACT: Kelly Parkhill (202) 482-3791; Julie Al-Saadawi (202) 482-1930.

SUPPLEMENTARY INFORMATION: On December 31, 2002, the Department of Commerce published its final rule on the implementation of the current steel import monitoring system (67 FR 79845). This system was initiated in connection with the implementation of safeguard measures with respect to certain steel products pursuant to Section 203 of the Trade Act of 1974 (67 FR 10593). The effective date of the system was February 1, 2003. On December 4, 2003, the President issued a proclamation that terminated the safeguard measures, but also directed the Secretary of Commerce to continue the system until the earlier of March 21, 2005, or such time as the Secretary of Commerce establishes a replacement program. On December 9, 2003, the Department of Commerce published a notice that the system would continue in effect as described in the Proclamation (68 FR 68594).

The purpose of the Steel Import Monitoring and Analysis (SIMA) system is to provide steel producers, steel consumers, importers, and the general public with accurate and timely information on imports of certain steel products. Currently, the SIMA system requires licenses for imports of certain steel products that were formerly covered under the President's safeguard action. Details of the current system can be found in the final rule published on December 31, 2002 (67 FR 79845).

In this notice, the Department of Commerce solicits comment from the public on the need to continue the current system beyond its current expiration date of March 21, 2005, if the Secretary of Commerce does not establish a replacement program prior to that date.

On April 1, 2004, in a joint letter cosigned by top executives from 38 steel producers, and in subsequent meetings with the Administration, the American Iron and Steel Institute (AISI) and the Steel Manufacturers Association (SMA) urged the Department to implement an enhanced replacement program for the current system. At a minimum, AISI and SMA requested that the Department take the initial steps necessary to begin any required rule making process by publishing a request for public comment in the Federal Register. Interest in the opportunity to provide public comment has also been expressed to the Department informally by a number of other interested parties including steel importers, distributors, service centers and foreign steel producers.

In this notice, the Department of Commerce is also requesting comments on whether to introduce possible enhancements to the system. While we welcome suggestions for improving the system, we would particularly appreciate public comments on the following items.

Product Coverage. Commerce is considering whether it should modify the scope of the current system to either cover additional products or remove certain products from licensing and monitoring.

Timing of License Application. Currently, the license is required at the time of entry summary, although one may apply for a license up to two months prior to the expected date of importation. We encourage interested persons to comment on both the effectiveness and the burden of the current system as well as any alternative options that they believe may be more appropriate.

Possible Modifications to the Import Monitor. We encourage interested persons to submit comments or suggestions on changes to the import monitor (e.g., presentation of more detailed product information, summary information by Customs District, inclusion of trend analysis).

Further information may be obtained by viewing the current system at Import Administration's SIMA Web site (http://ia.ita.doc.gov/steel/license/). Interested persons are encouraged to visit the website and to test the system. For assistance and a temporary user code, please contact the steel licensing team at (202) 482-2105.

All comments responding to this notice will be a matter of public record and available for public inspection and copying at Import Administration's Central Records Unit, Room B-099, between the hours of 8:30 a.m. and 5 p.m. on business days.

Classification: This rule has been determined to be significant for purposes of Executive Order 12866.

Dated: August 18, 2004.
James J. Jochum,
Assistant Secretary for Import Administration.

[FR Doc. 04-19490 Filed 8-24-04; 8:45 am]

BILLING CODE 3510-DS-P